DEPARTMENT OF THE INTERIOR

Fish and Wildlife Service

Information Collection Renewal To Be Submitted to the Office of Management and Budget (OMB) for Approval Under the Paperwork Reduction Act

AGENCY: Fish and Wildlife Service, Interior.

ACTION: Information collection; request for comments.

SUMMARY: The collection of information described below will be submitted to OMB for renewal under the provisions of the Paperwork Reduction Act of 1995. A copy of the information collection requirement is included in this notice. Copies of specific information collection requirements, related forms and explanatory material may be obtained by contacting the Service Information Collection Office at the address and/or phone numbers listed below.

DATES: Consideration will be given to all comments received on or before April 18, 2000.

ADDRESSES: Comments and suggestions on specific requirements should be sent to the Service Information Collection Clearance Officer, U.S. Fish and Wildlife Service, MS 222 ARLSQ, 1849 C Street NW, Washington DC 20240. If you wish to comment, you may submit your comments by any one of several methods. You may mail comments to the above address. You may also comment via the Internet to R9LE_www@fws.gov. Please submit Internet comments as an ASCII file, avoiding the use of special characters and any form of encryption. Please also include “Attn: Information Collection Renewal, 3-177 Form” and your name and return address in your Internet message. If you do not receive a confirmation from the system that we have received your Internet message, contact us directly at the telephone number listed below. Finally, you may hand-deliver comments to the above address.

FOR FURTHER INFORMATION CONTACT: Kevin Adams, Chief, Office of Law Enforcement, U.S. Fish and Wildlife Service, telephone (703) 358-1949, fax (703) 358-2271.

SUPPLEMENTARY INFORMATION: The U.S. Fish and Wildlife Service (Service) will submit a request to OMB to renew its approval of the collection of information for the “Declaration For Importation or Exportation of Fish or Wildlife.” The current OMB control number is 1018-0012. As part of this process, we invite comments on (1) whether the collection of information is necessary as it relates to the function of the Service, including whether the information will have practical utility; (2) the accuracy of our estimate of the burden on the public to complete the form; and (3) ways to enhance the quality and clarity of the information collection for those who are to respond, including use of appropriate automated, electronic, mechanical, or other technological collection techniques or other forms of information technology. This form will be made available in an electronic format. We are requesting a 3-year term of approval for this information collection activity.

Federal agencies may not conduct or sponsor, and a person is not required to respond to, a collection of information unless it displays a currently valid OMB control number.

The Endangered Species Act (16 U.S.C. 1538(e)) makes it unlawful to import or export fish, wildlife or plants without filing any declaration or report deemed necessary for enforcing the Act or upholding the Convention on International Trade in Endangered Species (CITES). The U.S. Fish and Wildlife Service Form 3-177, “Declaration for Importation or Exportation of Fish or Wildlife,” is the documentation required of any individual importing or exporting a fish or wildlife product into or out of the United States. The information collected is unique to each wildlife shipment and enables the Service to accurately inspect the contents of the shipment, maintain records and enforce government regulations. Additionally, much of the collected information is compiled in an annual report and is forwarded to the CITES Secretariat in Geneva, Switzerland. Submission of an annual report on the number and types of imports and exports of fish and wildlife is a treaty obligation under CITES.

Service personnel use the information obtained from a 3-177 form as an enforcement tool and management aid in monitoring the international wildlife market and detecting trends and changes in the commercial trade of wildlife and plants. The Agency's Office of Scientific Authority and the Office of Management Authority use this data to assess the needs for additional protection for indigenous species.

In addition, non-government organizations, as well as the commercial wildlife community request information that has been obtained from the 3-177 declaration form.

The 3-177 form must be filed with the Service at the time of import or export, at a port where clearance is requested. In certain instances, this form may be filed with the U.S. Customs Service.

The standard information collection includes the name of the importer/exporter and broker, the scientific and common name of the wildlife, permit numbers (if a permit is required), a description of the commodity, quantity and value, and country of origin of the wildlife. In addition, information such as the airway bill or bill of lading number, the location of the goods for inspection, and number of cartons containing wildlife assists the inspectors if a physical examination is required, and expedites the inspection and eventual clearance of the shipment.

Title: Declaration for Importation or Exportation of Fish or Wildlife.

Approval Number: 1018-0012.

Service Form Number: 3-177.

Frequency of Collection: Hourly.

Description of Respondents: Businesses or individuals that import/export wildlife, scientific institutions, government agencies.

Total Annual Burden Hours: The reporting burden is estimated to average 14 minutes per respondent. The total annual burden hours is 19,780 hours.

Total Annual Responses: Approximately 86,000 individual declaration forms are filed with the Service in a fiscal year.

We invite comments on the renewal of the 3-177 form. The information collections in this program are part of a system of records covered by the Privacy Act (5 U.S.C. 552(a)). Our practice is to make comments, including names and home addresses of respondents, available for public review during regular business hours. Individual respondents may request that we withhold their home addresses from the record, which we will honor to the extent allowable by law. There may also be limited circumstances in which we would withhold from the rulemaking record, a respondent's identity, as allowable by law. If you wish us to withhold your name and/or address, you must state this clearly at the beginning of your comment. We will not consider anonymous comments. We generally make all submissions from organizations or businesses, and from individuals identifying themselves as representatives or officials of organizations or businesses, available for public inspection in their entirety.

BILLING CODE 4310-55-U

BILLING CODE 4310-55-C

Filing Instructions

Note: Failure to file a declaration for importation or exportation of fish or wildlife when required by the regulations in 50 CFR 14.61-14.64 is a violation of the Endangered Species Act of 1973 as amended (16 U.S.C. 1531 et seq)

Regulations concerning the importation and exportation of wildlife may be found in 50 CFR Part 14. Specific regulation concerning the filing of declaration for the importation and exportation of wildlife may be found in 50 CFR 14.61-14.64.

Instructions: File original declaration and up to 2 copies to be retained by Importer/Exporter or broker. Print or type legibly. Provide all relevant information, including supplemental documentation (as required in 50 CFR 14.52(c)(1-5).

1. Enter the date of import or export (as defined by 50 CFR 14.4)

2. Enter Import/Export License Number as in 50 CFR 14.91.

3. Check appropriate box.

4. Use 2-letter code on list. Include a copy of your Non-designated Port Permit, if applicable. If the Port is not listed, use the numeric code for the Region where the port is located.

Agana, GU—AG

Alcan, AK—AL

Anchorage, AK—AN

Atlanta, GA—AT

Baltimore, MD—BA

Blaine, WA—BL

Boston, MA—BO

Brownsville, TX—BV

Buffalo/Niagara Falls, NY—BN

Calais, ME—CA

Calexico, CA—CX

Champlain, NY—CP

Chicago, IL—CH

Cleveland, OH—CL

Dallas, Fort Worth, TX—DF

Del Rio, TX—DR

Denver, CO—DN

Detroit, MI—DE

Douglas, AZ—DG

Dunseith, ND—DS

Eastport, ID—EA

El Paso, TX—EL

Fairbanks, AK—FB

Golden, CO—GO

Grand Portage, MN—GP

Highgate Springs, VT—HS

Honolulu, HI—HA

Houlton, ME—HO

Houston, TX—HN

International Falls, MN—IF

Jackman, MN—JK

Juneau, AK—JU

Laredo, TX—LR

Los Angeles, CA—LA

Lukeville, AZ—LK

Miami, FL—MI

Minneapolis/St. Paul, MN—MP

New Orleans, LA—NO

New York, NY—NY

Newark, NJ—NW

Nogales, AZ—NG

Norfolk, VA—NF

Pembina, ND—PB

Philadelphia, PA—PA

Port Huron, MI—PH

Portal, ND—PL

Portland, OR—PT

Raymond, MT—RY

San Diego/San Ysidro, CA—SY

San Francisco, CA—SF

San Juan, PR—SJ

Sault Saint Marie, MI—SS

Seattle, WA—SE

Sumas, WA—SU

Sweetgrass, MT—SW

Tampa, FL—TP

Tulsa, OK—TU

Washington Dulles, VA—DU

Region 1—Other 01

Region 2—Other 02

Region 3—Other 03

Region 4—Other 04

Region 5—Other 05

Region 6—Other 06

Region 7—Other 07

5. Use one-letter Purpose Code on list.

T—Commercial

Z—Zoos

G—Botanical gardens

Q—Circuses and traveling exhibitions

S—Scientific

H—Hunting trophies

P—Personal

M—Biomedical research

E—Educational

N—Reintroduction or introduction into the wild

B—Breeding in captivity or artificial propagation

6. Provide the Customs entry number, if applicable.

7. Name of carrier—airline, vessel, rail or truck company, or personally owned vehicle.

8. Provide Master, House Airway Bill number or Bill of Lading , if applicable.

9. Use one-letter Transportation Code on list. For automobiles, list license number and state.

A—Air cargo

R—Rail

M—Mail

P—Personal baggage

T—Truck (commercial)

O—Ocean cargo

V—Personal vehicle

B—Border crossing on foot

10. Provide bonded location where available for inspection.

11. Indicate the quantity of cartons in the entire shipment containing wildlife.

12. List any unique markings or codes on cartons containing the wildlife, if applicable.

13. Check appropriate box and complete the name and address in full.

14a. Provide complete name and address information.

14b. Use the two letter ISO (International Organization for Standardization) Country Code.

Afghanistan—AF

Albania—AL

Algeria—DZ

American Samoa—AS

Andorra—AD

Angola—AO

Anguilla—AI

Antarctica—AQ

Antigua and Barbuda—AG

Argentina—AR

Armenia—AM

Aruba—AW

Ascension Islands—GB

Australia—AU

Austria—AT

Azerbaijan—AZ

Azores—ES

Bahamas—BS

Bahrain—BH

Bangladesh—BD

Barbados—BB

Belarus—BY

Belgium—BE

Belize—BZ

Benin—BJ

Bermuda—BM

Bhutan—BT

Bolivia—BO

Bosnia-Herzegovina—BA

Botswana—BW

Bouvet Island—BV

Brazil—BR

British Indian Ocean Territory—IO

British Virgin Islands—VG

Brunei Darussalam—BN

Bulgaria—BG

Burkina Faso—BF

Burundi—BI

Cambodia (Kampuchea)—KH

Cameroon—CM

Canada—CA

Canary Islands—ES

Cape Verde—CV

Cayman Islands—KY

Central African Republic—CF

Chad—TD

Chile—CL

China, People's Republic of—CN

Christmas Island—CX

Cocos Islands (Keeling)—CC

Colombia—CO

Comoros—KM

Congo—CG

Congo, Democratic Republic of (formerly Zaire)—CD

Cook Islands—CK

Costa Rica—CR

Cote d'Ivoire (Ivory Coast)—CI

Croatia—HR

Cuba—CU

Curacao (Netherlands Antilles)—AN

Cyprus—CY

Czech Republic—CZ

Denmark—DK

Djibouti—DJ

Dominica—DM

Dominican Republic—DO

Ecuador—EC

Egypt—EG

El Salvador—SV

Equatorial Guinea—GQ

Eritrea—ER

Estonia—EE

Ethiopia—ET

Falkland Islands (Malvinas)—FK

Faroe Islands—FO

Fiji—FJ

Finland—FI

France—FR

French Guiana—GF

French Polynesia (Tahiti)—PF

French Southern and Antarctic Lands—TF

Gabon—GA

Gambia—GM

Gaza Strip—GZ

Georgia—GE

Germany—DE

Ghana—GH

Gibraltar—GI

Greece—GR

Greenland—GL

Grenada—GD

Guadeloupe—GP

Guam—GU

Guatemala—GT

Guinea—GN

Guinea-Bissau—GW

Guyana—GY

Haiti—HT

Heard and McDonald Islands—HM

Honduras—HN

Hong Kong—HK

Hungary—HU

Iceland—IS

India—IN

Indonesia—ID

Iran—IR

Iraq—IQ

Ireland—IE

Israel—IL

Italy—IT

Jamaica—JM

Japan—JP

Jordan—JO

Kazakhstan—KZ

Kenya—KE

Kiribati—KI

Korea, Democratic People's Republic of—KP

Korea, Republic of—KR

Kuwait—KW

Kyrgyzstan—KG

Lao People's Democratic Republic—LA

Latvia—LV

Lebanon—LB

Lesotho—LS

Liberia—LR

Libyan Arab Jamahiriya—LY

Liechtenstein—LI

Lithuania—LT

Luxembourg—LU

Macau—MO

Macedonia (Skopje)—MK

Madagascar (Malagasy)—MG

Malawi—MW

Malaysia—MY

Maldives—MV

Mali—ML

Malta—MT

Maritius—MU

Marshall Islands—MH

Martinique—MQ

Mauritania—MR

Mayotte—YT

Mexico—MX

Micronesia, Federated States of—FS

Moldova—MD

Monaco—MC

Mongolia—MN

Montserrat—MS

Morocco—MA

Mozambique—MZ

Myanmar (Burma)—MM

Namibia—NA

Nauru—NR

Nepal—NP

Netherlands Antilles—AN

Netherlands—NL

New Caledonia—NC

New Zealand—NZ

Nicaragua—NI

Niger—NE

Nigeria—NG

Niue—NU

Norfolk Island—NF

Northern Mariana Islands—MP

Norway—NO

Oman—OM

Pacific Islands (Miscellaneous)—PC

Pakistan—PK

Palau—PW

Panama—PA

Papua New Guinea—PG

Paraguay—PY

Peru—PE

Philippines—PH

Pitcairn Islands—PN

Poland—PL

Portugal—PT

Puerto Rico—PR

Qatar—QA

Reunion—RE

Romania—RO

Russian Federation—RU

Rwanda—RW

Saint Helena—SH

Saint Kitts and Nevis—KN

Saint Lucia—LC

Saint Pierre and Miquelon—PM

Saint Vincent and the Grenadines—VC

San Marino—SM

Sao Tome and Principe—ST

Saudi Arabia—SA

Senegal—SN

Seychelles—SC

Sierra Leone—SL

Singapore—SG

Slovakia—SK

Slovenia—SI

Solomon Islands—SB

Somalia—SO

South Africa—ZA

South Georgia/South Sandwich Islands—GS

Spain—ES

Sri Lanka—LK

Sudan—SD

Suriname—SR

Svalbard and Jan Mayen Islands—SJ

Swaziland—SZ

Sweden—SE

Switzerland—CH

Syrian Arab Republic—SY

Taiwan (Province of China)—TW

Tajikistan—TJ

Tanzania, United Republic of—TZ

Thailand—TH

Togo—TG

Tokelau—TK

Tongo—TO

Trinidad and Tobago—TT

Tunisia—TN

Turkey—TR

Turkmenistan—TM

Turks and Caicos Islands—TC

Tuvalu—TV

Uganda—UG

Ukraine—UA

United Arab Emirates—AE

United Kingdom (England/N. Ireland/Scotland/Wales)—GB

United States Minor Outlying Islands—UM

United States of America—US

United States, Virgin Islands—VI

Unknown—XX

Uruguay—UY

Uzbekistan—UZ

Vanuatu—VU

Vatican City—VA

Viet Nam—VN

Wallis and Futuna Islands—WF

West Bank—WE

“West Indies”/Unidentified Carribean Is.—WI

Western Sahara—EH

Western Samoa—WS

Yemen—YE

Yugoslavia—YU

Zambia—ZM

Zimbabwe—ZW

15. Enter the name of the appropriate agent, if applicable. (including phone number, FAX number and printed contact name)

16a. List the scientific name for each species. This is a Latin name including genus and species (and sub-species, when applicable).

16b. Include the common name in English.

17a. List the shipper's Foreign CITES permit number for each species in 16a, if applicable. List one permit number per block.

17b. List any U.S. CITES permit number, if applicable.

18a . Use the description code from the list below.

BOC—Bone product or carving

BOD—Whole dead animal

BON—Bones (including jaws, but not skulls)

BOP—Bone pieces (not manufactured)

BUL—Bulbs, corms or tubers

CAL—Calipees (turtle calipees or calipashes)

CAP—Carapaces (raw or unworked turtle or tortoise shells)

CAR—Carvings (other than bone, horn, or ivory which have separate codes)

CLA—Claws

CLO—Cloth

COR—Coral (raw or unworked))

CPR—Coral products

CUL—Cultures (of artificially propagated plants)

CUT—Cuttings (plant cuttings or divisions)

DEA—Dead specimens (live animals or plants that died during shipment)

DPL—Dried plants

EAR—Ears (usually elephant)

EGG—Eggs (whole dead or blown eggs, including caviar)

EGL—Live eggs

EXT—Extracts (usually plant)

FEA—Feathers

FIB—Fiber (usually plant, but includes tennis racket strings)

FLO—Flowers

FPT—Flower pots (flower pots made of tree fern fiber)

LEG—Frog legs

FRU—Fruit

FOO—Feet

GAL—Galls (bile)

GAB—Gall bladders

GAR—Garments (not including shoe or trim, which have separate codes)

GRS—Graft rootstocks

HAI—Hair

HAP—Hair products (such as paint brushes, etc.)

HOC—Horn carving (horn or antler carvings or products)

HOP—Horn pieces (pieces of horn, not manufactured)

HOR—Horns (substantially whole horns or antlers)

IJW—Ivory jewelry

IVC—Ivory carvings

IVP—Ivory pieces (pieces of ivory, not manufactured—includes scraps)

JWL—Jewelry (other than ivory jewelry)

KEY—Ivory piano keys

LPS—Small leather product (small manufactured leather products, e.g. notebooks, purses, wallets, watch bands)

LPL—Large leather products (large manufactured leather products, e.g. briefcases, furniture, handbags, suitcases)

LIV—Live specimens (live animal or plant specimens)

LVS—Leaves

ME— Meat

MED—Medicinals

MUS—Musk

OIL—Oil

PIV—Pianos with ivory keys

PLA—Fur plates (plates of fur skins—includes rugs if made from more than one skin)

ROO—Dead roots (roots, usually ginseng)

RUG—Rugs (rugs if made from one skin)

SAL—Saw logs (substantially whole tree trunks)

SAW—Sawn wood (tree trunks sawn into unworked planks, beams, blocks, etc.)

SCA—Scales (Scales of turtles, other reptiles, fish, pangolins)

SDL—Seedlings

SEE—Seeds

SHE—Shells (raw or unworked shells of molluscs or eggshell, except whole eggs)

SHO—Shoes (shoes or boots)

SID—Sides (skin sides or flanks, not including tinga frames)

SKE—Skeletons (substantially whole skeletons)

SKI—Skins (substantially whole skins, raw or tanned, including tinga frames)

SKP—Skin pieces (pieces of skin, including scraps, raw or tanned)

SKU—Skulls

SOU—Soup

SPE—Scientific specimens (scientific or biological specimens, including blood, tissue, histological preparations)

SPR—Shell products (products from mollusc or turtle shells)

STE—Stems (planrt stems)

TAI—Tails

TEE—Teeth (tusks are recorded as “TUS”)

TIM—Timber (raw timber except saw-logs and sawn wood)

TRI—Trim (shoe trim, garment trim, or other decorative trim)

TRO—Trophies (all the trophy parts of one animal, if they are exported together e.g., horns, skull, cape, backskin, tail, and feet constitute one trophy)

TUS—Tusks (substantially whole tusks, whether worked or not)

UNS—Unspecified

VEN—Veneers

WAX—Wax (including ambergris)

WPR—Wood products (wood products, including furniture, cactus rainsticks, etc.)

18b. Use one-letter code for wildlife source from the list below.

W—Specimens taken from the wild

R—Specimens originating from a ranching operation

D—Appendix—I animals bred in captivity for commercial purposes and Appendix I plants artificially propagated for commercial purposes, as well as parts and derivatives thereof, exported under the provisions of Article VII, paragraph 4, of the Convention.

A—Plants that are artificially propagated, parts and derivatives.

C—Animals bred in captivity, parts and derivatives.

F—Animals born in captivity (F1 or subsequent generations) that do not fulfill the definition of “bred in captivity” in Resolution Conf. 10.16, as well as parts and derivatives thereof.

U—Source unknown (must be justified)

I—Confiscated or seized specimens.

P—Pre-convention

19a. Provide the specific quantity of wildlife, and the unit of measure from the list. Multiply pairs by two.

C3—Cubic centimeters

GM—Grams

KG—Kilograms

LT—Liters

MT—Meters

M2—Square meters

M3—Cubic Meters

NO—Number of specimens

19b. Indicate total value of items containing wildlife in U.S. dollars (rounded to the nearest dollar).

20. Use two-letter ISO (International Organization for Standardization) Code for country where animal originated.

21. Sign and date the form. Type or print your name below signature.

If additional space is needed, please use continuation form USFWS Form 3-177a.

Dated: February 2, 2000.
Jamie Rappaport Clark,
Director, U.S. Fish and Wildlife Service.

[FR Doc. 00-3741 Filed 2-17-00; 8:45 am]

BILLING CODE 4310-55-U